DEPARTMENT OF AGRICULTURE

Forest Service

Snohomish County Resource Advisory Committee

AGENCY: Forest Service, USDA.

ACTION: Notice of meeting.

SUMMARY: The Snohomish County Resource Advisory Committee (RAC) will meet in Everett, Washington on July 7, 2010. The committee is meeting to review and prioritize 2009/2010 Snohomish County RAC Project Proposals for funding.

DATES: The meeting will be held on Wednesday, July 7, 2010, from 9 a.m. to 5 p.m.

ADDRESSES: The meeting will be held at the Snohomish County Administration Building West in the 6th floor Executive Conference Room, located at 3000 Rockefeller Ave., Everett, Washington 98201.

FOR FURTHER INFORMATION CONTACT: Peter Forbes, District Ranger, Darrington Ranger District, phone (360) 436-2301, e-mail pforbes@fs.fed.us.

Individuals who use telecommunication devices for the deaf (TDD) may call the Federal Information Relay Service (FIRS) at 1-800-877-8339 between 8 a.m. and 8 p.m., Eastern Standard Time, Monday through Friday.

SUPPLEMENTARY INFORMATION: The meeting is open to the public. More information will be posted on the Mt. Baker-Snoqualmie National Forest Web site at http://www.fs.fed.us/r6/mbs/projects/rac.shtml.

Comments may be sent via e-mail to pforbes@fs.fed.us or via facsimile to (360) 436-1309. All comments, including names and addresses when provided, are placed in the record and are available for public inspection and copying. The public may inspect comments received at the Darrington Ranger District office at 1405 Emens Avenue, Darrington, Washington, during regular office hours (Monday through Friday 8 a.m.-4:30 p.m.).

Dated: June 16, 2010.
Y. Robert Iwamoto,
Forest Supervisor.

[FR Doc. 2010-15102 Filed 6-23-10; 8:45 am]

BILLING CODE 3410-11-M